ENVIRONMENTAL PROTECTION AGENCY

[FRL-7919-1]

Meeting of the Local Government Advisory Committee

AGENCY: Environmental Protection Agency (EPA).

ACTION: Notice.

SUMMARY: The Local Government Advisory Committee and its three subcommittees; the Small Community Advisory Subcommittee (SCAS), Water Subcommittee and Indicators Subcommittee will meet on June 8-10, 2005 in Arlington, VA. The Committee will be discussing environmental indicators, potential engagement in the Agency's regulatory process, and providing assistance to small towns.

The SCAS, Water and Indicators Subcommittees will meet in separate sessions on Wednesday, June 8, at EPA Headquarters located at 1200 Pennsylvania Ave., NW., Washington, DC. The Subcommittees sessions will begin at 1 p.m. and conclude at 5 p.m. on the 3rd floor of the Ariel Rios North Building in conference rooms 3428, 3528 and 3530. The subcommittees will be discussing drinking water, affordability, small communities partnership program and the Great Lake Regional Collaborations.

The Committee will hear comments from the public between 1 p.m.-1:15 p.m. on Thursday, June 9. Each individual or organization wishing to address the LGAC meeting will be allowed a maximum of five minutes to present their point of view. Please contact the Designated Federal Officer (DFO) at the number listed below to schedule agenda time. Time will be allotted on a first come, first serve basis, and the total period for comments may be extended, if the number of requests for appearances require it.

This is an open meeting and all interested persons are invited to attend. LGAC meeting minutes and Subcommittee summary notes will be available after the meeting and can be obtained by written request from the DFO. Members of the public are requested to call the DFO at the number listed below if planning to attend so that arrangements can be made to comfortably accommodate attendees as much as possible. Seating will be on a first come, first serve basis.

DATES: The Local Government Advisory Committee plenary session will begin at 8:30 a.m. Thursday, June 9 and conclude at 2 p.m. on Friday, June 10.

ADDRESSES: The LGAC meeting will be held at the Embassy Suites Hotel, located at 1300 Jefferson Davis Highway in the Adams Conference Room.

Additional information can be obtained by writing the DFO at 1200 Pennsylvania Avenue, NW., (1301A), Washington, DC 20460.

FOR FURTHER INFORMATION CONTACT: The DFO for the Local Government Advisory Committee (LGAC) is Pamela Luttner (202) 564-3107.

Information on Services for the Handicapped: For information on facilities or services for the handicapped or to request special assistance at the meetings, contact the Designated Federal Officer at (202) 564-3107 as soon as possible.

Dated: May 12, 2005.
Pamela A. Luttner,
Designated Federal Officer, Local Government Advisory Committee.

[FR Doc. 05-10769 Filed 5-27-05; 8:45 am]

BILLING CODE 6560-50-M